OFFICE OF GOVERNMENT ETHICS

Agency Information Collection Activities; Proposed Collection; Comment Request for a Modified OGE Form 450 Executive Branch Confidential Financial Disclosure Report

AGENCY: Office of Government Ethics (OGE).

ACTION: Notice of request for agency and public comments.

SUMMARY: After this first round notice and public comment period, the Office of Government Ethics (OGE) plans to submit a modified OGE Form 450 Executive Branch Confidential Financial Disclosure Report to the Office of Management and Budget (OMB) for review and approval under the Paperwork Reduction Act of 1995.

DATES: Written comments by the public and agencies on this proposed extension are invited and must be received by September 10, 2018.

ADDRESSES: Comments may be submitted to OGE, by any of the following methods:

Email: usoge@oge.gov (Include reference to “OGE Form 450 paperwork comment” in the subject line of the message.)

FAX: 202-482-9237, Attn: Sara Nekou.

Mail, Hand Delivery/Courier: Office of Government Ethics, 1201 New York Avenue NW, Suite 500, Attention: Sara Nekou, Assistant Counsel, Washington, DC 20005-3917.

Instructions: Comments may be posted on OGE's website, https://www.oge.gov. Sensitive personal information, such as account numbers or Social Security numbers, should not be included. Comments generally will not be edited to remove any identifying or contact information.

FOR FURTHER INFORMATION CONTACT: Sara Nekou at the U.S. Office of Government Ethics; telephone: 202-482-9229; TTY: 800-877-8339; FAX: 202-482-9237; Email: snekou@oge.gov. An electronic copy of the OGE Form 450 is available in the Forms Library section of OGE's website at https://www.oge.gov. A paper copy may also be obtained, without charge, by contacting Ms. Nekou.

SUPPLEMENTARY INFORMATION:

Title: Executive Branch Confidential Financial Disclosure Report.

Agency Form Number: OGE Form 450.

OMB Control Number: 3209-0006.

Type of Information Collection: Revision of a currently approved collection.

Type of Review Request: Regular.

Respondents: Prospective Government employees, including special Government employees, whose positions are designated for confidential disclosure filing and whose agencies require that they file new entrant confidential disclosure reports prior to assuming Government responsibilities.

Estimated Annual Number of Respondents: 24,640.

Estimated Time per Response: 3 hours.

Estimated Total Annual Burden: 73,920 hours.

Abstract: The OGE Form 450 collects information from covered department and agency employees as required under OGE's executive branch wide regulatory provisions in subpart I of 5 CFR part 2634. The basis for the OGE reporting regulation is section 201(d) of Executive Order 12674 of April 12, 1989 (as modified by Executive Order 12731 of October 17, 1990) and section 107(a) of the Ethics in Government Act, 5 U.S.C. app. sec. 107(a). OGE proposes several modifications to the form.

On October 5, 2016, OGE published a proposed rule for amending 5 CFR part 2634. See 81 FR 69204-69238 (October 5, 2016). The proposed modifications to the OGE Form 450 revise the instructions to reflect the changes to the financial disclosure regulation, if adopted as final. Specifically, OGE proposes to: Change the reporting periods for each part completed by new entrants; change the income disclosure threshold to $1,000 of received income; eliminate the disclosure of diversified funds held within an employee benefit plan; clarify that the disclosure requirement for agreements and arrangements includes those with a current employer; eliminate the disclosure of continued participation in a defined contribution plan to which an employer is no longer making contributions; and combine gifts and travel reimbursement into a single category for purposes of applying the disclosure thresholds.

OGE is also proposing to update the Privacy Act Statement in accordance with changes to the applicable system of records, update the examples provided on the last page of the form, and make other minor technical changes.

Request for Comments: OGE is publishing this first round notice of its intent to request paperwork clearance for a proposed modified OGE Form 450. Public comment is invited specifically on the need for and practical utility of this information collection, the accuracy of OGE's burden estimate, the enhancement of quality, utility and clarity of the information collected, and the minimization of burden (including the use of information technology). Comments received in response to this notice will be summarized for, and may be included with, the OGE request for extension of OMB paperwork approval. The comments will also become a matter of public record.

Approved: July 3, 2018.
David Apol,
Acting Director and General Counsel, Office of Government Ethics.

[FR Doc. 2018-14841 Filed 7-10-18; 8:45 am]

BILLING CODE 6345-03-P